DEPARTMENT OF THE INTERIOR

Bureau of Reclamation

[DES 00-58]

Draft Supplemental EIS/EIR for Acquisition of Additional Water for Meeting the San Joaquin River Agreement Flow Objectives, 2000-2010

AGENCY: Bureau of Reclamation, Interior.

ACTION: Notice of availability of the Draft Supplemental Environmental Impact Statement/Environmental Impact Report (DSEIS/EIR).

SUMMARY: Pursuant to the National Environmental Policy Act (NEPA) and the California Environmental Quality Act (CEQA), the Bureau of Reclamation (Reclamation) and the San Joaquin River Group Authority (SJRGA) are preparing a joint DSEIS/EIR for the acquisition of additional water for meeting the San Joaquin River Agreement flow objectives, 2001-2010. This document covers minor additions to the Proposed Project/Action addressed in the Final EIS/EIR (FEIS/EIR) prepared for Meeting Flow Objectives for the San Joaquin River Agreement, 1999-2010 (January 1999). The FEIS/EIR documented the environmental consequences of acquiring and using flows specified in the San Joaquin River Agreement (SJRA).

The purpose of the Proposed Action is to supplement, under Paragraph 8 of the SJRA, the water provided by the SJRA that has been analyzed in the FEIS/EIR. The supplemental water consists of up to 47,000 acre-feet from the Tuolumne and Merced rivers to provide full Vernalis Adaptive Management Plan (VAMP) test flow conditions at Vernalis during “double step years” for water years 2001 through 2010. This supplemental water may also assist Reclamation in meeting the Anadromous Fish Restoration Plan, Bay-Delta flow objectives as required by State Board Decision 1641, and the U.S. Fish and Wildlife Service's 1995 Biological Opinion for Delta Smelt.

The Proposed Project/Action area includes the Tuolumne, Merced, Stanislaus, and San Joaquin Rivers and related reservoirs and water districts in the counties of Tuolumne, Merced, Stanislaus, San Joaquin, Mariposa, and Calaveras counties.

DATES: Submit written comments on the DSEIS/EIR on or before February 12, 2001. Comments may be submitted to Reclamation or SJRGA at the addresses provided below. The public hearing on the DSEIS/EIR will be held on February 1, 2001, at 1:30 p.m. in Sacramento.

ADDRESSES: The public hearing will be held at the Federal Building at 2800 Cottage Way, Sacramento, California, in Conference Room 1003, adjacent to the Cottage Cafe near the south building entrance.

Written comments on the DSEIS/EIR should be addressed to Mr. John Burke, Bureau of Reclamation, Mid-Pacific Region, 2800 Cottage Way, MP-410, Sacramento, CA 95825-1898, or Mr. Dan Fults, San Joaquin River Group Authority, 200 Capitol Mall, Suite 900, Sacramento, CA 95814.

Copies of the DSEIS/EIR may be requested from Mr. Dan Meier by calling (916) 978-5559.

See Supplementary Information section for locations where copies of the DSEIS/EIR are available for public inspection.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Mr. Dan Meier, Reclamation, at (916) 978-5559 (TDD 916/978-5608); or Mr. Dan Fults, SJRGA, at (916) 449-3957.

SUPPLEMENTARY INFORMATION: The SJRA was established to provide a level of protection equivalent to the San Joaquin River flow objectives contained in the State Water Resources Control Board's (SWRCB) 1995 Water Quality Control Plan for the lower San Joaquin River and San Francisco Bay-Delta Estuary (Delta). A key part of the SJRA is the VAMP which is a scientifically-based adaptive fishery management plan to help determine the relationships between flows, exports, and other factors on fish survival in this region of the Delta. The SWRCB adopted pertinent provisions of the SJRA on December 29, 1999, and issued its Revised Water Right Decision 1641 (D-1641) containing these provisions on March 15, 2000. D-1641 approved implementation of the VAMP through December 31, 2011.

SJRGA and Reclamation prepared the FEIS/EIR in January 1999 to meet CEQA and NEPA requirements to address environmental impacts associated with acquiring water to meet the flow objectives in the SJRA. This document addressed the need for up to 110,000 acre-feet to meet a 31-day spring pulse flow target in the San Joaquin River at Vernalis. The SJRA allows for willing sellers among the SJRGA to sell Reclamation additional water when the spring pulse flow target exceeds 110,000 acre-feet. The FEIS/EIR prepared for the SJRA acknowledged the need for this additional water from willing sellers in some water years but did not address the environmental impacts associated with acquiring this supplemental water.

The purpose of the DSEIS/EIR is to update and supplement analyses presented in the 1999 FEIS/EIR to address the acquisition of up to 47,000 acre-feet of water annually during the 2001 through 2010 water years.

Copies of the DSEIS/EIR are available for public inspection and review at the following locations:

• San Joaquin River Group Authority, 400 Capitol Mall, Suite 900, Sacramento, CA 95814; telephone: (916) 449-3957

• Bureau of Reclamation, Office of Policy, Room 7456, 1849 C Street NW, Washington DC 20240; telephone: (202) 208-4662

• Bureau of Reclamation, Reclamation Service Center Library, Building 67, Room 167, Denver Federal Center, 6th and Kipling, Denver, Colorado 80225; telephone: (303) 445-2072

• Bureau of Reclamation, Public Affairs Office, 2800 Cottage Way, Sacramento, California 95825-1898; telephone: (916) 978-5100

• Natural Resources Library, U.S. Department of the Interior, 1849 C Street NW, Main Interior Building, Washington DC 20240-0001

Hearing Process Information: A public hearing on the DSEIS/EIR will be held on February 1, 2001. The public may provide verbal testimony on the content of the environmental document at this hearing. Written comments will also be accepted.

Dated: December 18, 2000.
Lester A. Snow,
Regional Director.

[FR Doc. 00-32923 Filed 12-26-00; 8:45 am]

BILLING CODE 4310-MN-P